INTERNATIONAL TRADE COMMISSION

[Investigation No. 337-TA-443]

In the Matter of Certain Flooring Products; Notice of Commission Decision Not To Review an Initial Determination Amending the Complaint and Notice of Investigation To Add Certain Claims of a Recently Issued Patent

AGENCY: U.S. International Trade Commission.

ACTION: Notice.

SUMMARY: Notice is hereby given that the U.S. International Trade Commission has determined not to review the presiding administrative law judge's (“ALJ's”) initial determination (“ID”) amending the complaint and notice of investigation in the above-captioned investigation to add allegations of infringement by twelve claims (1, 8, 13, 14, 21, 26, 27, 34, 39, 40, 41 and 48) of a recently issued patent, U.S. Letters Patent 6,182,410 (‘410 patent).

FOR FURTHER INFORMATION CONTACT: Robin L. Turner, Esq., Office of the General Counsel, U.S. International Trade Commission, 500 E Street, SW., Washington, DC 20436, tel. (202) 205-3096. Hearing impaired persons are advised that information on this matter can be obtained by contacting the Commission's TDD terminal at (202) 205-1810. General information concerning the Commission may also be obtained by accessing the Commission's internet server (http://www.usitc.gov). The public record for this investigation may be viewed on the Commission's electronic docket (EDIS-ON-LINE) at http://www.usitc.gov/eol/public.

SUPPLEMENTARY INFORMATION: The Commission instituted this investigation on December 29, 2000, based on a complaint filed on behalf of Alloc, Inc., Berry Finance N.V., and Valinge Aluminum AB. The seven respondents are Unilin Decor N.V., BHK of America, Meister-Leisten Schulte GmbH, Roysol, Akzenta Paneele + Profile GmbH, Tarkett, Inc., and Pergo, Inc.

On February 16, 2001, complainants moved to amend the complaint and notice of investigation to add allegations of infringement by twelve claims in the recently issued ‘410 patent. The motion was supported by the Commission investigative attorney, but opposed by certain respondents. On March 5, 2001, the ALJ issued an ID (Order No. 8.) granting the motion. No party petitioned for review of the ID.

The authority for the Commission's action is contained in section 337 of the Tariff Act of 1930, as amended (19 CFR 1337), and in section 210.42(a) of the Commission's Rules of Practice and Procedure (19 CFR 210.42(a)). Copies of the ALJ's ID and all other nonconfidential documents filed in connection with this investigation are or will be available for inspection during official business hours (8:45 a.m. to 5:15 p.m.) in the Office of the Secretary, U.S. International Trade Commission, 500 E Street, SW., Washington, DC 20436, telephone (202) 205-2000.

By Order of the Commission.
Issued: March 21, 2001.
Donna R. Koehnke,
Secretary.

[FR Doc. 01-7441 Filed 3-23-01; 8:45 am]

BILLING CODE 7020-02-P